OFFICE OF PERSONNEL MANAGEMENT

[OMB No. 3206-0277]

Proposed Collection; Comment Request for Review of an Information Collection: Certification of Vaccination Common Form

AGENCY: Office of Personnel Management.

ACTION: Notice of request for approval of information collection previously given an emergency clearance.

SUMMARY: In accordance with the Paperwork Reduction Act of 1995, this notice announces that the Office of Personnel Management (OPM) intends to submit to the Office of Management and Budget (OMB) a request for review of an existing Emergency collection for the OPM Form: Certification of Vaccination Common Form. Approval of the 3206-0277 is necessary for establishing specific safety protocols for two groups—“fully vaccinated people” and “not fully vaccinated people”—respectively. Individuals who disclose that they are fully vaccinated may comply with agency guidance for fully vaccinated individuals; those who are unvaccinated, are only partially vaccinated, or who choose not to provide this information will be required to comply with the Centers for Disease Control and Prevention and agency guidance for not fully vaccinated individuals, including wearing masks regardless of the transmission rate in a given area, physical distancing, regular testing, and adhering to applicable travel requirements.

DATES: Comments on this proposal should be received within 60 calendar days from the date of this publication.

ADDRESSES: You may submit comments, identified by docket number and/or Regulatory Information Number (RIN) and title, by the following method:

— Federal Rulemaking Portal: http://www.rgulations.gov. Follow the instructions for submitting comments.

Via email to employ@opm.gov or send mail to U.S. Office of Personnel Management 1900 E Street NW, Room 6500 N Washington, DC 20415.

All submissions received must include the agency name and docket number or RIN for this document. The general policy for comments and other submissions from members of the public is to make these submissions available for public viewing at http://www.regulations.gov as they are received without change, including any personal identifiers or contact information.

For Information Regarding Administrative Coordination Contact: Monica Butler employ@opm.gov Employee Services/TACVP/HP U.S. Office of Personnel Management 1900 E Street NW, Room 6500 N Washington, DC 20415

SUPPLEMENTARY INFORMATION: As required by the Paperwork Reduction Act of 1995 OPM is soliciting comments for this collection (OMB No. 3206-0160). The Office of Management and Budget is particularly interested in comments that:

• Whether this collection of information is necessary for the proper performance of functions of the Office of Personnel Management, and whether it will have practical utility;

• whether our estimate of the public burden of this collection is accurate, and based on valid assumptions and methodology collected during the Emergency approval process; and

• ways in which we can minimize the burden of the collection of information on those who are to respond, through the use of the appropriate technological collection techniques or other forms of information technology.

Analysis

Agency: Employee Services, Office of Personnel Management.

Title: Certification of Vaccination Common Form.

OMB Number: 3206-0277.

Frequency: On occasion.

Affected Public: Individuals or Households.

Number of Respondents: 3,952.

Estimated Time per Respondent: 2 minutes.

Total Burden Hours: 132 hours.

Office of Personnel Management.
Kellie Cosgrove Riley,
Director Privacy and Information Management.

[FR Doc. 2021-25580 Filed 11-22-21; 8:45 am]

BILLING CODE 6325-39-P